DEPARTMENT OF COMMERCE

International Trade Administration

[Application No. 10-3A001]

Export Trade Certificate of Review

ACTION: Notice of Issuance of an Export Trade Certificate of Review to Alaska Longline Cod Commission (Application No. 10-3A001).

SUMMARY: On September 27, 2012, the U.S. Department of Commerce issued an amended Export Trade Certificate of Review to the Alaska Longline Cod Commission (“ALCC”). This is the third amendment to the Certificate. This notice summarizes the conduct for which certification has been granted. ALCC's original Certificate was issued on May 13, 2010 (75 FR 29514, May 26, 2010).

FOR FURTHER INFORMATION CONTACT: Joseph E. Flynn, Director, Office of Competition and Economic Analysis, International Trade Administration, by telephone at (202) 482-5131 (this is not a toll-free number), or by Email at etca@trade.gov.

SUPPLEMENTARY INFORMATION: Title III of the Export Trading Company Act of 1982 (15 U.S.C. 4001-21) authorizes the Secretary of Commerce to issue Export Trade Certificates of Review. The regulations implementing Title III are found at 15 CFR part 325 (2009).

The Office of Competition and Economic Analysis is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

ALCC's Export Trade Certificate of Review has been amended to:

1. Add the following company as a Member of the Certificate within the meaning of section 325.2(l) of the Regulations (15 CFR 325.2(l)): Glacier Bay Fisheries, LLC.

The effective date of the amended certificate is July 18, 2012, the date on which ALCC's application to amend the certificate was deemed submitted. A copy of the amended certificate will be kept in the International Trade Administration's Freedom of Information Records Inspection Facility, Room 4001, U.S. Department of Commerce, 14th Street and Constitution Avenue NW., Washington, DC 20230.

Dated: October 1, 2012.
Joseph E. Flynn,
Director, Office of Competition and Economic Analysis.

[FR Doc. 2012-24881 Filed 10-10-12; 8:45 am]

BILLING CODE 3510-DR-P